DEPARTMENT OF TRANSPORTATION

Federal Aviation Administration

14 CFR Part 39

[Docket No. 2001-NM-68-AD; Amendment 39-12210; AD 2001-09-05]

RIN 2120-AA64

Airworthiness Directives; Airbus Model A310-324, A310-325, and A300 B4-622R Series Airplanes Equipped with Pratt & Whitney PW4000 Series Engines

AGENCY: Federal Aviation Administration, DOT.

ACTION: Final rule; request for comments.

SUMMARY: This amendment adopts a new airworthiness directive (AD) that is applicable to certain Airbus Model A310-324, A310-325, and A300 B4-622R series airplanes equipped with Pratt & Whitney PW4000 series engines. This action requires revising the Airplane Flight Manuals (AFM) for the Model A310 and Model A300-600 series airplanes. This action is necessary to prevent acceleration and climb performance less than that specified in the AFM, which could result in runway overruns or impact with obstacles or terrain. This action is intended to address the identified unsafe condition.

DATES: Effective May 22, 2001.

The incorporation by reference of certain publications listed in the regulations is approved by the Director of the Federal Register as of May 22, 2001.

Comments for inclusion in the Rules Docket must be received on or before June 6, 2001.

ADDRESSES: Submit comments in triplicate to the Federal Aviation Administration (FAA), Transport Airplane Directorate, ANM-114, Attention: Rules Docket Number 2001-NM-68-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2001-NM-68-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tim Backman, Aerospace Engineer, ANM-116, International Branch, FAA, Transport Airplane Directorate, 1601 Lind Avenue, SW., Renton, Washington 98055-4056; telephone (425) 227-2797; fax (425) 227-1149.

SUPPLEMENTARY INFORMATION: The FAA has received reports that Pratt & Whitney Model PW4000 series engines with certain early-production fan blades (Phase 0/1, FB2B or FB2T) installed on Airbus Model A310-324, A310-325, and A300 B4-622R series airplanes do not produce the amount of thrust indicated in the AFM. This thrust shortfall is due to erosion of the fan blade's leading edge. The flight crew has no indication of this shortfall in thrust. This condition results in acceleration and climb performance less than that specified in the AFM, which, if not corrected, could result in an overrun of the runway or impact with an obstacle or terrain.

Explanation of Relevant Service Information

The Direction Générale de l'Aviation Civile (DGAC), which is the airworthiness authority for France, has requested that Airbus prepare revisions to the AFM to take into account the reduction in performance associated with PW4000 series engines fitted with early-production fan blades and to incorporate the necessary adjustments in performance. Those revisions are expected to be available from Airbus in mid-2001. Meanwhile, Airbus has issued the following Temporary Revisions (TR) to the AFM, each dated January 22, 2001:

A310 Flight Manual TR 5.03.00/01 (for Airbus Model A310-324 series airplanes);

A310 Flight Manual TR 5.03.00/02 (for Airbus Model A310-325 series airplanes); and

A300-600 Flight Manual TR 5.03.00/01 (for Airbus Model A300 B4-622R series airplanes).

These TR's contain performance adjustments for the AFM for Model A310-324, A310-325, and A300 B4-622R series airplanes equipped with one or more Pratt & Whitney Model PW4000 series engine with early-production fan blades. The DGAC classified these TR's as mandatory and issued French airworthiness directive 2001-086(B), dated March 7, 2001, in order to assure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent acceleration and climb performance less than that specified in the AFM, which could result in runway overruns or impact with obstacles or terrain. This AD requires revising the Performance section of the FAA-approved AFM's for Model A310-324, A310-325, and 300 B4-622R series airplanes to incorporate certain adjustments in performance.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-68-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-09-05 Airbus Industrie: Amendment 39-12210. Docket 2001-NM-68-AD.

Applicability: Model A310-324, A310-325, and A300 B4-622R series airplanes; certificated in any category; equipped with Pratt & Whitney PW4000 series engines, except for airplanes fitted with current-production FB2C fan blades (Phase 3 fan blades) on both engines.

Note 1: Airbus Modification 10925 installs Phase 3 engines, and these are equipped with FB2C (Phase 3) fan blades. Therefore, this AD is not applicable to airplanes with that modification.

Compliance: Required as indicated, unless accomplished previously.

To prevent acceleration and climb performance less than that specified in the Airplane Flight Manual (AFM), which could result in runway overruns or impact with obstacles or terrain, accomplish the following:

AFM Revision

(a) For Model A310-324 and -325 series airplanes: Within 30 days after the effective date of this AD, revise the FAA-approved AFM to incorporate specified adjustments in performance by inserting the following Airbus A310 Flight Manual Temporary Revisions (TR), all dated January 22, 2001, as applicable, into the Performance section of the AFM: 5.03.00/01 (for Airbus Model A310-324 series airplanes); or 5.03.00/02 (for Airbus Model A310-325 series airplanes).

(b) For Model A300 B4-622R series airplanes: Within 30 days after the effective date of this AD, revise the FAA-approved AFM to incorporate specified adjustments in performance by inserting the following A300-600 Flight Manual TR, dated January 22, 2001 into the Performance section of the AFM: 5.03.00/01 (for Airbus Model A300 B4-622R series airplanes).

(c) When the information in the TR's specified in paragraphs (a) and (b) of this AD, has been incorporated into FAA-approved general revisions of the applicable AFM's, the general revisions may be incorporated in the applicable AFM, and the TR's may be removed from the AFM's.

Alternative Methods of Compliance

(d) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch.

Note 2: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Incorporation by Reference

(f) The actions shall be done in accordance with Airbus A310 Flight Manual Temporary Revision 5.03.00/01, dated January 22, 2001; Airbus A310 Flight Manual Temporary Revision 5.03.00/02, dated January 22, 2001; and Airbus A300-600 Flight Manual Temporary Revision 5.03.00/01, dated January 22, 2001; as applicable. (Note: Only the first page to each of these Temporary Revisions are date stamped; no other pages of the Temporary Revisions contain the revision date.) This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2001-086(B), dated March 7, 2001.

Effective Date

(g) This amendment becomes effective on May 22, 2001.

Issued in Renton, Washington, on April 23, 2001.
Donald L. Riggin,
Acting Manager, Transport Airplane Directorate, Aircraft Certification Service.

[FR Doc. 01-10591 Filed 5-4-01; 8:45 am]

BILLING CODE 4910-13-U